DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on May 8, 2013 (Federal Register/Vol. 78, No. 89/pp. 26848-26849).

DATES: Submit comments to the Office of Management and Budget (OMB) on or before October 7, 2013.

FOR FURTHER INFORMATION CONTACT: Randolph Atkins at the National Highway Traffic Safety Administration, Office of Behavioral Safety Research (NTI-131), W46-500, Department of Transportation, 1200 New Jersey Avenue SE., Washington, DC 20590. Dr. Atkins' phone number is 202-366-5597 and his email address is randolph.atkins@dot.gov.

SUPPLEMENTARY INFORMATION: OMB Control Number: 2127-New.

Title: Matching Countermeasures to Driver Types and Speeding Behaviors.

Form No.: NHTSA 1198.

Type of Review: Regular.

Respondents: The survey respondents will be a random sample of drivers currently licensed and living in Idaho. The sample will be stratified by age, gender, and numbers of citations for speeding in the previous three years.

Estimated Number of Respondents: An estimated sample size of 3200 drivers is projected for the survey mailing with a projected response rate of 50% (1600 drivers).

Estimated Time per Response: The average amount of time for each respondent to complete the survey is estimated at 25 minutes. This includes any time needed to retrieve information.

Total Estimated Annual Burden Hours: 444.6 hours.

Frequency of Collection: The survey will be administered a single time.

Abstract: In this study, NHTSA will be conducting a survey of a random sample of licensed drivers in the State of Idaho, stratified by age, gender and number of speeding convictions, in order to further explore typologies of driver speeding types developed in our recent Motivations for Speeding project and our 2011 National Survey of Speeding Attitudes and Behavior with a focus on finding appropriate countermeasures for various speeder types. This project will collect information on the attitudes and experiences of the drivers surveyed with regard to speeding countermeasures as well as actual driving records and match countermeasures with driver types.

One objective of this project is to further examine the driver speeding typologies from the two previous studies. Each of the typologies provides a different way of defining speeder types. The four speeder types from the Motivations for Speeding project are based on the actual driving behaviors of a small sample of volunteer drivers. The three speeder types from the 2011 national phone survey are based on self-reports from a nationally representative sample of drivers. This project will compare these two ways of defining types of drivers with regard to their speeding behavior using driver records and the results of a mail survey of a representative sample of fully-licensed drivers and examine the utility of each way of defining types of speeders.

A second objective of this project is the exploration of appropriate speeding countermeasures for various driver speeding types and roadways. This includes examining various countermeasures applied to speeding, such as traditional law enforcement, in-vehicle technologies, and driver education. This project will collect information on the attitudes and experiences of the drivers surveyed with regard to speeding countermeasures and match countermeasures with driver types from the two speeding typologies. Based on the analysis of this matching, recommendations for the most appropriate speeding countermeasures for various driver types will be produced.

The third objective of this project is to match actual driver records with individual survey responses in order to compare patterns of actual driving violations with speeding types and other responses, and to validate self-report information found in the survey. The driver records data will also be used to conduct a non-response bias analysis for the survey.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC, on August 30, 2013.
Jeff Michael,
Associate Administrator, Research and Program Development.

[FR Doc. 2013-21554 Filed 9-4-13; 8:45 am]

BILLING CODE 4910-59-P